Title 3—

The President

Proclamation 8110 of February 28, 2007

Save Your Vision Week, 2007

By the President of the United States of America

A Proclamation

Across our Nation, millions of Americans suffer from eye diseases and vision loss. During Save Your Vision Week, we reinforce the importance of proper eye care and raise awareness about how to protect and prolong healthy vision.

By taking simple preventative steps such as wearing sunglasses and using protective goggles while exposed to hazardous objects or environments, Americans can help maintain their eyesight. Regular eye exams are also key to safeguarding healthy vision. As a result of the Medicare Modernization Act, Medicare may pay the cost of exams for those who are eligible and have a high risk of diabetic eye disease or glaucoma. More information about healthy vision and eye care can be found by visiting nei.nih.gov. My Administration is committed to helping Americans lead better, healthier lives. By working with community organizations, eye care professionals, and compassionate citizens, we can increase awareness of the importance of regular and diligent eye care and encourage people to takes steps to maintain eye health and keep the precious gift of sight.

The Congress, by joint resolution approved December 30, 1963, as amended (77 Stat. 629; 36 U.S.C. 138), has authorized and requested the President to proclaim the first week in March of each year as “Save Your Vision Week.”

NOW, THEREFORE, I, GEORGE W. BUSH, President of the United States of America, do hereby proclaim March 4 through March 10, 2007, as Save Your Vision Week. I encourage all Americans to learn more about eye care and eye safety, and take measures to help ensure a lifetime of healthy vision.

IN WITNESS WHEREOF, I have hereunto set my hand this twenty-eighth day of February, in the year of our Lord two thousand seven, and of the Independence of the United States of America the two hundred and thirty-first.

[FR Doc. 07-1004

Filed 3-1-07; 11:35 am]

Billing code 3195-01-P